DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2009, there were no applications approved. This notice also includes information on four applications, approved in April 2009, inadvertently left off the April 2009 notice. Additionally, nine approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. No. 101-508) and Part 158 of the Federal Aviation Regulations (14 CFR Part 158). This notice is published pursuant to paragraph d of § 158.29.

PFC Applications Approved

Public Agency: City of Fayetteville, North Carolina.

Application Number: 09-04-C-00-FAY.

Application Type: Impose and use a PFC.

PFC Level: $4.00.

Total PFC Revenue Approved in This Decision: $3,796,330.

Earliest Charge Effective Date: July 1, 2009.

Estimated Charge Expiration Date: June 1, 2024.

Class of Air Carriers Not Required to Collect PFC'S: None.

Brief Description of Projects Approved for Collection and Use:

Terminal phase II.

Employee parking (non-revenue).

West general aviation ramp rehabilitation.

Land acquisition.

Handicap access to narrow body jets.

Fire training facility rehabilitation.

Runway 4/22 rehabilitation—design.

Aircraft rescue and firefighting rehabilitation—design.

Snow removal equipment building—design/construction.

Electrical vault upgrades—design, generator installation.

Stormwater improvement.

Vault construction.

Runway 4/22 construction.

Security fence and gates.

Replace aircraft rescue and firefighting truck.

Air carrier asphalt (rehabilitate apron)—design.

Taxiway A design, shoulder, overlay, lights.

Extend taxiway A design.

Construct taxiway A shoulders, overlay, lights.

Brief Description of Project Partially Approved for Collection and Use: Aircraft rescue and firefighting rehabilitation.

Determination: The FAA determined that only two of the three bays were PFC eligible.

Brief Description of Projects Approved for Collection:

Replace B4 jet bridge.

Construct air carrier asphalt (rehabilitate apron).

Construct taxiway A extension.

Air carrier concrete (apron) repair—design.

Terminal phase IV.

Airline concrete (apron) repair—construction.

Runway 4/22 paved shoulders—design.

Land acquisition—runway 4 runway protection zone.

Construct runway 4/22 paved shoulders.

General aviation automobile parking (non-revenue).

Brief Description of Disapproved Projects:

Terminal phase III floor upgrade.

Terminal phase II public seating.

Public seating.

Determination: The FAA determined that none of these projects were PFC eligible as stand alone projects.

Decision Date: April 8, 2009.

FOR FURTHER INFORMATION CONTACT: John Marshall, Atlanta Airports District Office, (404) 305-7153.

Public Agency: Metropolitan Nashville Airport Authority, Nashville, Tennessee.

Application Number: 09-15-C-00-BNA.

Application Type: Impose and use a PFC.

PFC Level: $4.50.

Total PFC Revenue Approved in this Decision: $11,287,500.

Earliest Charge Effective Date: January 1, 2016.

Estimated Charge Expiration Date: January 1, 2017.

Class of Air Carriers not Required to Collect PFC'S: Air taxi operators that enplane fewer than 25,000 passengers per year and/or provide unscheduled air service at Nashville International Airport.

Determination: Approved. Based on information contained in the public agency's application, the FM has determined that the proposed class accounts for less than 1 percent of the total annual enplanements at Nashville International Airport.

Brief Description of Project Approved for Collection and Use at a $4.50 PFC Level: Reconstruct runway 2L/20R (design and construction).

Brief Description of Project Approved for Collection and Use at a $3.00 PFC Level: Terminal roof replacement.

Brief Description of Project Partially Approved for Collection and Use at a $3.00 PFC Level: Sprinkler system in utility tunnels.

Determination: The public agency requested that PFCs pay 100 percent of the project costs. However, the FAA determined that the utilities serve both eligible and ineligible areas of the terminal. Based on information provided by the public agency, the terminal is 85 percent eligible, thus, this PFC approval was limited to 85 percent of the total project cost.

Decision Date: April 28, 2009.

For Further Information Contact: Cynthia Wills, Memphis Airports District Office, (901) 322-8190.

Public Agency: City of New Orleans and New Orleans Aviation Board, New Orleans, Louisiana.

Application Number: 09-09-C-00-MSY.

Application Type: Impose and use a PFC.

PFC Level: $4.50.

Total PFC Revenue Approved in this Decision: $2,775,439.

Earliest Charge Effective Date: January 1, 2020.

Estimated Charge Expiration Date: April 1, 2020.

Class of Air Carriers Not Required to Collect PFC's: Part 135 on-demand air taxi/commercial operators filing FAA Form 1800-31.

Determination: Approved. Based on information contained in the public agency's application, the FAA has determined that the proposed class accounts for less than 1 percent of the total annual enplanements at Louis Armstrong New Orleans International Airport.

Brief Description of Project Approved for Collection and Use at a $4.50 PFC Level: Taxiway C extension—east.

Brief Description of Project Approved for Collection and Use at a $3.00 PFC Level: Hazardous wildlife study.

Brief Description of Disapproved Project:

Hazard mitigation study.

Determination: This project does not meet the requirements of § 158.15(b) and, therefore, is not PFC-eligible.

Brief Description of Withdrawn Project:

Auxiliary power facility.

Date of Withdrawal: February 11, 2009.

Decision Date: April 29, 2009.

For Further Information Contact: Andy Velayos, Louisiana/New Mexico Airports Development Office, (817) 222-5647.

Public Agency: City of Phoenix, Arizona.

Application Number: 09-09-C-00-PHX.

Application Type: Impose and use a PFC.

PFC Level: $4.50.

Total PFC Revenue Approved in this Decision: $1,858,636,000.

Earliest Charge Effective Date: August 1, 2010.

Estimated Charge Expiration Date: November 1, 2028.

Classes of Air Carriers Not Required to Collect PFC'S:

(1) Nonscheduled/on-demand air carriers filing FAA Form 1800-31; (2) commuters of small certified air carriers filing U.S. Department of Transportation (DOT) Form T-100 with less than 7,500 enplanements each annually at Phoenix Sky Harbor International Airport (PHX); (3) large certified route air carriers filing DOT Form T-100 with less than 7,500 enplanements each annually at PHX; and (4) foreign air carriers filing DOT Form T-100(f) with less than 7,500 enplanements each annually at PHX.

Determination: Approved. Based on information contained in the public agency's application, the FAA has determined that each proposed class accounts for less than 1 percent of the total annual enplanements at PHX.

Brief Description of Projects Approved for Collection and Use at a $4.50 PFC Level:

Automated train.

Community noise reduction program.

Terminal 4 apron rehabilitation.

Airfield lighting and runway sign relocation.

Brief Description of Projects Approved for Collection and Use at a $3.00 PFC Level:

Terminal capacity improvements.

South infield paving.

Decision Date: April 30, 2009.

For Further Information Contact: Darlene Williams, Los Angeles Airports District Office, (310) 725-3625.

Amendment to PFC Approvals
Amendment No., city, state | Amendment approved date | Original approved net PFC revenue | Amended approved net PFC revenue | Original estimated charge exp. date | Amended estimated charge exp. date
06-05-C-02-BWI, Baltimore, MD | 04/28/09 | $267,602,000 | $256,062,000 | 01/01/16 | 01/01/16
07-06-U-01-BWI, Baltimore, MD | 04/28/09 | NA | NA | 01/01/16 | 01/01/16
03-01-C-02-RDU, Raleigh-Durham, NC | 04/30/09 | 9,778,473 | 7,430,029 | 10/01/04 | 10/01/04
03-03-C-01-UNV, State College, PA | 04/30/09 | 1,510,612 | 804,936 | 07/01/06 | 07/01/06
01-02-C-04-HRL, Harlingen, TX | 05/05/09 | 5,436,858 | 5,470,023 | 12/01/07 | 08/01/07
07-03-C-01-HRL, Harlingen, TX | 05/05/09 | 7,885,824 | 3,590,824 | 03/01/11 | 07/01/09
04-06-C-01-EAT, Wenatchee, WA | 05/06/09 | 356,000 | 356,000 | 11/01/06 | 11/01/06
95-03-C-03-SEA, Seattle, WA | 05/14/09 | 288,930,000 | 292,882,278 | 03/01/03 | 03/01/03
05-05-C-01-LAN | 05/15/09 | 4,137,468 | 1,414,664 | 02/01/22 | 01/01/19

Issued in Washington, DC, on July 16, 2009.
Joe Hebert,
Manager, Financial Analysis and Passenger Facility Charge Branch.

[FR Doc. E9-17582 Filed 7-23-09; 8:45 am]

BILLING CODE 4910-13-M